DEPARTMENT OF THE INTERIOR

Bureau of Land Management

[LLCAD08000.L14300000.ET0000; CACA 50194]

Notice of Partial Cancellation of Proposed Withdrawal; California

AGENCY: Bureau of Land Management, Interior.

ACTION: Notice.

SUMMARY: The U.S. Department of the Navy (Navy) has requested partial cancellation of its application of August 13, 2008, which requested the Secretary of the Interior to process a proposed legislative withdrawal and reservation of public lands and public mineral estate for its use. These lands were to be withdrawn on behalf of the proposed expansion of the U. S. Marine Corps' Air Ground Combat Center at Twentynine Palms. The Navy has requested that the Bureau of Land Management (BLM) remove approximately 33,488 acres of public lands from its application. The initial application was for the transfer of jurisdiction and the withdrawal of approximately 365,906 acres of public land and approximately 507 acres of Federal subsurface mineral estate from all forms of appropriation under the public land laws, including surface entry, mining, mineral leasing, and the Materials Act of 1947. This notice terminates the temporary two-year segregation from settlement, sale, location, or entry under the public land laws, including the mining laws, and the operation of the mineral leasing laws and the Materials Act of 1947 of the public lands and mineral estate described below. In addition, the initial application provisionally identified the surface estate of 507 acres of federally-owned mineral estate and the surface and mineral estates of approximately 72,186 acres of non-federally owned property in the proposed withdrawal area. If these acres were ever acquired by or returned to the United States by any means, they were also to be included in the proposed withdrawal and subject to the temporary segregation authorized by the initial notice. The Navy has requested that the BLM remove surface and mineral estates of approximately 28,871 acres of the non-federally owned property.

DATES: Effective Date: January 25, 2010.

FOR FURTHER INFORMATION CONTACT: Roxie Trost, Field Manager, BLM Barstow Field Office, 2601 Barstow Road, Barstow, California 92311, (760) 252-6000; or Joseph Ross, Range Expansion Program Manager, USMC MAGTFTC, MCAGCC, Bldg. 1554, Box 788106, Twentynine Palms, California 92278-8106, (760) 830-7683.

SUPPLEMENTARY INFORMATION: A Notice of Proposed Legislative Withdrawal and Opportunity for Public Meeting was published in the Federal Register on September 15, 2008 (73 FR 53269) in response to the initial application from the Navy. Based on a review of the lands proposed for withdrawal, the Navy has requested that the following described lands and interest in lands be removed from its application:

1. Federally-owned surface and mineral estate:

San Bernardino Meridian

Western Expansion Area.

T. 4 N., R. 2 E.,

Sec. 2, lots 3 to 90, inclusive.

T. 6 N., R. 2 E.,

Sec. 1, SE¼;

Sec. 12, E½.

T. 4 N., R. 3 E.,

Sec. 11;

Sec. 13, S½;

Sec. 14, SE¼;

Sec. 15, N½.

T. 3 N., R. 4 E.,

Sec. 1.

T. 4 N., R. 4 E.,

Secs. 34 to 35, inclusive.

T. 3 N., R. 5 E.,

Sec. 9, W½NE¼, NE¼NW¼, E½NW¼NW¼, E½W½NW¼NW¼, W½SW¼NW¼NW¼, NE¼SW¼NW¼, W½SW¼NW¼, W½SE¼SW¼NW¼, E½SE¼NW¼, W½NW¼SE¼NW¼, and E½SW¼SE¼NW¼;

Sec. 10, SW¼NE¼, S½ NW¼, and W½SW¼;

Sec. 12, NE¼NE¼SE¼, E½W½NE¼SE¼, E½NE¼NW¼SE¼, E½W½NW¼SE¼, W½SE¼NW¼SE¼, W½E½SW¼SE¼, NW¼SW¼SE¼, SW¼SE¼SE¼, and W½SE¼SE¼SE¼.

Southern Expansion Area.

T. 2 N., R. 9 E.,

Sec. 34, N½SW¼NE¼, W½SE¼SE¼NE¼, W½SW¼SW¼NE¼, N½N½SE¼NE¼, E½NE¼NE¼SW¼, W½W½NW¼SE¼, W½SE¼NE¼SW¼, NE¼NE¼SW¼, SW¼NE¼SW¼, N½NE¼SE¼, SE¼NE¼SE¼, E½SW¼NE¼SE¼.

Eastern Expansion Area.

T. 5 N., R. 11 E.,

Secs. 1 and 2, secs. 11 to 14, inclusive, and secs. 23 to 26, inclusive.

T. 6 N., R. 11 E.,

Sec. 35, that portion lying south of the Historic Route 66 Corridor.

T. 5 N., R. 12 E.,

Sec. 2, that portion lying south of the Historic Route 66 Corridor;

Secs. 3 to 4, those portions lying south of the Historic Route 66 Corridor except for the lands conveyed to U. S. Gypsum Company by patent number 1000677, inclusive;

Sec. 5, lots 3 and 4, lots 15 to 22, inclusive, and lots 31 to 38, inclusive;

Sec. 6, that portion lying south of the Historic Route 66 Corridor;

Sec. 7;

Sec. 8, all except for the land conveyed to U. S. Gypsum Company by patent number 1000678;

Sec. 9;

Secs. 10 and 11, all except the lands conveyed to U. S. Gypsum Company by patent number 1000677, inclusive;

Secs. 12 to 15, inclusive;

Sec. 17, all except the lands conveyed to U. S. Gypsum Company by patent number 1000678;

Sec. 18.

T. 5 N., R. 13 E.,

Secs. 2, 3, 4, 6, 7, 8, 10, 11, 12, 14, 15 and 18.

T. 3 N., R. 14 E.,

Sec. 23, that portion lying east of the Sheephole Valley Wilderness Area;

Sec. 24;

Secs. 25 and 26, those portions lying east of the Sheephole Valley Wilderness Area;

Sec. 36, that portion of NW¼ lying east of the Sheephole Valley Wilderness Area.

T. 5 N., R. 14 E.,

Secs. 1 to 4, inclusive, secs 6, 7 and 10;

Sec. 11, E½NE¼NE¼, W½NE¼, NW¼, and S½;

Secs. 12, 14 and 15.

T. 2 N., R. 15 E.,

Secs. 4 and 5;

Secs. 6 to 8, those portions lying northeasterly of the Sheephole Valley Wilderness Area, inclusive.

T. 3 N., R. 15 E.,

Sec. 15, that portion lying west of the Cadiz Dunes Wilderness Area;

Secs. 18, 19 and 20;

Sec. 22, that portion lying west of the Cadiz Dunes Wilderness Area;

Secs. 25 to 28, inclusive, secs. 30, 31 and 32;

Sec. 34, N½;

Sec. 35, N½ and SE¼.

T. 5 N., R. 15 E.,

Secs. 1 to 4, inclusive, and secs. 6 and 7;

Sec. 9, SE¼SE¼.

T. 5 N., R. 16 E.,

Sec. 29, that portion lying westerly of the Old Woman Mountains Wilderness Area.

Northern Expansion Area.

T. 6 N., R. 7 E.,

Sec. 12.

T. 7 N., R. 7 E.,

Sec. 24.

The areas described aggregate 33,488 acres, more or less, in San Bernardino County.

2. Non-federally-owned surface and mineral estate:

(a). Privately-owned surface and mineral estate:

San Bernardino Meridian

Western Expansion Area.

T. 4 N., R. 3 E.,

Sec. 10, S½N½ and S½;

Sec. 11, SE¼;

Sec. 12, SW¼;

Sec. 13, N½.

T. 4 N., R. 4 E.,

Sec. 18, S½;

Sec. 36.

T. 3 N., R. 5 E.,

Sec. 9, W½NW¼NW¼NW¼, E½SE¼SW¼NW¼, E½NW¼SE¼NW¼, and W½SW¼SE¼NW¼;

Sec. 12, SE¼NE¼SE¼, W½W½NE¼SE¼, NW¼NE¼NW¼SE¼, SE¼SE¼NW¼SE¼, W½W½NW¼SE¼, E½E½SW¼SE¼, SW¼SW¼SE¼, N½SE¼SE¼, SW¼SE¼SE¼, and E½SE¼SE¼SE¼.

Southern Expansion Area.

T. 2 N., R. 9 E.,

Sec. 34, N½NE¼NE¼NE¼, E½SW¼SW¼NE¼, E½SE¼SW¼NE¼, S½N½SE¼NE¼, N½S½SE¼NE¼, S½SW¼SE¼NE¼, W½NE¼NE¼SW¼, E½SE¼NE¼SW¼, S½S½, E½W½NW¼SE¼, E½NW¼SE¼, and W½SW¼NE¼SE¼;

Sec. 35, N½NE¼NE¼NE¼, S½SW¼NE¼NE¼, and S½;

Sec. 36.

T. 2 N., R. 10 E.,

Sec. 36.

Eastern Expansion Area.

T. 6 N., R. 11 E.,

Sec. 36, that portion lying south of the Historic Route 66 corridor.

T. 3 N., R. 12 E.,

Sec. 36, that portion lying west of the boundary of the Sheephole Valley Wilderness Area.

T. 5 N., R. 12 E.,

Sec. 1;

Secs. 3, 4, 10, and 11, all the lands conveyed to U.S. Gypsum Company by patent number 1000677, containing 480 acres, inclusive;

Sec. 5, lot 1 of NE¼, W½ of lot 1 of NW¼, W½ of lot 2 of NE¼, W½ of lot 2 of NW¼, and S½;

Secs. 8 and 17, all the lands conveyed to U.S. Gypsum Company by patent number 1000678, inclusive.

T. 5 N., R. 13 E.,

Secs. 1, 5, 9, 13, 16 and 17.

T. 4 N., R. 14 E.,

Sec. 36, that portion lying east of the Sheephole Valley Wilderness Area.

T. 5 N., R. 14 E.,

Secs. 5, 8, and 9;

Sec. 11, W½NE¼NE¼ and SE¼NE¼;

Secs. 13, 16, 17 and 18.

T. 3 N., R. 15 E.,

Secs. 17, 21, 29, and 33;

Sec. 34, S½.

T. 5 N., R. 15 E.,

Secs. 5 and 8;

Sec. 9, N½, SW¼, N½SE¼, and SW¼SE¼;

Secs. 17 and 18.

T. 5 N., R. 16 E.,

Sec. 29, that portion lying southwesterly of the Old Woman Mountains Wilderness Area.

Northern Expansion Area.

T. 6 N., R. 7 E.,

Secs. 1 and 13.

The areas described aggregate 24,837 acres, more or less, in San Bernardino County.

(b). State-of-California-owned surface and mineral estate:

San Bernardino Meridian

Western Expansion Area.

T. 4 N., R. 3 E.,

Sec. 14, N½;

Sec. 15, S½.

Eastern Expansion Area.

T. 3 N., R. 15 E.,

Sec. 16, that portion lying southwesterly of the Cadiz Dunes Wilderness Area.

T. 5 N., R. 15 E.,

Sec. 16.

Northern Expansion Area.

T. 7 N., R. 7 E.,

Sec. 36.

The areas described aggregate 4,034 acres, more or less, in San Bernardino County.

At 10 a.m. on February 24, 2010, the lands described above in “1. Federally-owned surface and mineral estate” will be opened to all forms of appropriation under the public land laws generally, subject to valid existing rights, the provisions of existing withdrawals, other segregations of record, and the requirements of applicable law. All valid applications received at or prior to 10 a.m. on February 24, 2010, shall be considered as simultaneously filed at that time. Those received thereafter shall be considered in the order of filing.

At 10 a.m. on February 24, 2010, the lands described above in “1. Federally-owned surface and mineral estate” of this order will be opened to location and entry under the United States mining laws—subject to valid existing rights, the provisions of existing withdrawals, other segregations of record, and the requirements of applicable law. Appropriation of land described in this order under the general mining laws prior to the date and time of restoration is unauthorized. Any such attempted appropriation, including attempted adverse possession under 30 U.S.C. 38 (2006), shall vest no rights against the United States. Acts required to establish a location and to initiate a right of possession are governed by state law where not in conflict with Federal law. The BLM will not intervene in disputes between rival locators over possessory rights since Congress has provided for such determinations in local courts.

At 10 a.m. on February 24, 2010, the lands described above in “1. Federally-owned surface and mineral estate” of this order will be opened to the operation of the mineral leasing laws and the Materials Act of 1947—subject to valid existing rights, the provisions of existing withdrawals, other segregations of record, and the requirements of applicable law.

Authority: 43 CFR 2310.1-4(a) and 43 CFR 2310.2-1(c).

Thomas Pogacnik,
Deputy State Director, Natural Resources (CA-930), Bureau of Land Management.

[FR Doc. 2010-1416 Filed 1-22-10; 8:45 am]

BILLING CODE 3810-FF-P